DEPARTMENT OF STATE

[Public Notice 4001]

Bureau of Educational and Cultural Affairs Request for Grant Proposals: Moscow State University Journalism Support Project

SUMMARY: The Office of Global Educational Programs of the Bureau of Educational and Cultural Affairs announces an open competition for the Moscow State University Journalism Support Project. Public and private non-profit organizations and educational institutions meeting the provisions described in Internal Revenue Code section 26 U.S.C. 501(c)(3) may submit proposals to cooperate with the Bureau in the administration of a two-year project to strengthen the training of journalists at Moscow State University (MSU). The means for achieving this objective may include teaching, research, and exchanges of scholars, administrators, and advanced graduate students from the participating institutions, as well as the acquisition of educational materials and resources.

Program Information

Overview: Journalists and independent media professionals play a critical role in ensuring the free flow of information necessary to the maintenance of democratic systems. Institutions of higher education, as the training ground for future journalists and media practitioners, can play an important role in setting the standards and providing the skills necessary for the maintenance of free media. This project is designed to assist the Faculty of Journalism at MSU to increase its capacity to deliver programs meeting high international standards for instruction and research in journalism training. The primary goal of this project is to promote the development of a curriculum that will meet the evolving needs of journalists in contemporary Russia.

The Moscow State University Journalism Support Project will provide funding for two years to enable a U.S. institution to cooperate with the Faculty of Journalism at MSU. The grantee organization will be expected to assist the Faculty of Journalism through a comprehensive program of exchange and support activities that will foster lasting institutional and individual ties. Applicants may either identify one U.S. college or university to work directly with the Faculty of Journalism or may propose other modes for exchange that will lead to the achievement of program objectives through increased cooperation by the Faculty of Journalism, its teachers and students with U.S. scholars, educators, and other professional experts. Pending availability of funds, the project will award approximately $500,000 to defray the costs of two-way faculty exchanges, of limited exchanges of graduate students, of educational materials, and to support some aspects of project administration. There may be the possibility of a renewal grant of up to $500,000 for a two-year period pending positive program review and the availability of funding.

Objectives: The purpose of this project is to assist the MSU Faculty of Journalism in strengthening its journalism training program. Specific objectives include: (1) Updating and introducing new curricula and approaches to the teaching of journalism; (2) increasing practical skills and experiential learning opportunities in the classroom and in the field; (3) supplementing material resources, including books and journal subscriptions, funding for translations, and upgrading of computer equipment and/or electronic resource materials; (4) providing research and collaborative research opportunities; (5) supporting distance learning and other initiatives providing outreach to journalism educators in other regions of Russia; and (6) fostering enduring relationships with U.S. academic institutions.

The program should enhance the Faculty of Journalism's ability to provide journalists with the skills necessary for practicing journalism in democratic society. Activities should lead to the achievement of project objectives in addressing topics such as: investigative reporting; ethics in journalism; policy analysis, media management; on-line journalism; and new media technologies. Applicants should provide assistance in developing incentives to encourage practicing professional journalists to return to the MSU classroom and share their expertise. Applicants are also encouraged to assist the Faculty of Journalism in securing additional foundation grants and corporate sponsorships to address on-going equipment needs and to undertake activities beyond the scope of this project.

Background: The MSU Faculty of Journalism currently has 125 professors, associate professors, lecturers, and instructors in addition to 60 researchers. Approximately 3,200 full-time and correspondence students are enrolled in a variety of degree programs. The Faculty consists of twelve departments: Periodical Press; Radio and Television; Mass Media Techniques; Sociology of the Media; Economical Journalism and Advertising; Editing, Publishing, and Computer Science; History of Russian Journalism and Literature; History of Mass Media; History of Foreign Journalism and Literature; Literary Criticism and Publicity; Stylistics of the Russian Language; and the UNESCO Department of Journalism and Communications. In addition, the Faculty of Journalism has a variety of labs, including: computer classrooms, a television studio, a radio studio, a photo lab and an experimental publishing house. Applicants are encouraged to contact the Faculty of Journalism to learn more about its programs and to consult about program priorities.

The institution receiving a grant award will be expected to submit periodic reports of the results of project activities in relation to project objectives. Proposals should outline and budget for a methodology for project evaluation. The evaluation plan should include an assessment of the current institutional needs at the time of program inception with specific reference to project objectives; formative evaluation to allow for mid-course revisions in the implementation strategy; and, at the conclusion of the project, summative evaluation of the degree to which the project's objectives have been achieved together with observations about the projects' continuing potential to influence the participating institutions and their surrounding communities or societies. The final evaluation should also include recommendations about how to build upon project achievements. Evaluative observations by external consultants with appropriate subject and regional expertise are especially encouraged.

Participant Eligibility: This project is designed to support exchanges of faculty, administrators, staff, and advanced graduate students from the Faculty of Journalism at MSU. In addition, participants may include U.S. faculty, administrators and staff, and other qualified professionals with relevant expertise in journalism. All participants traveling to Russia funded under the grant must be U.S. citizens. Foreign participants must be both qualified to receive U.S. J-1 visas and willing to travel to the U.S. under the provisions of a J-1 visa during the exchange visits funded by this program. Foreign participants may not be U.S. citizens.

Logistics: The grantee organization will be responsible for most arrangements associated with this program. These include providing international and domestic travel arrangements for all participants, making lodging and local transportation arrangements for visitors, orienting and debriefing participants, and preparing any other necessary support material.

Programs must comply with J-1 visa regulations. Please refer to the Project Objectives Goals and Implementation (POGI) and Proposal Submission Instruction (PSI) documents for this project for further information.

Budget Guidelines: The Bureau anticipates awarding one grant of approximately $500,000 to support program and administrative costs required to implement this project. Organizations with less than four years of experience in conducting international exchange programs are limited to $60,000, and are not encouraged to apply. The Bureau encourages applicants to provide maximum levels of cost sharing and funding from private sources in support of its programs.

Applicants must submit a comprehensive budget for the entire project. There must be a summary budget as well as breakdowns reflecting both administrative and program budgets. Applicants may provide separate sub-budgets for each program component, phase, location, or activity to provide clarification.

Please refer to the Solicitation Package for complete budget guidelines and formatting instructions.

Announcement Title and Number: All correspondence with the Bureau concerning this RFGP should reference the above title and number ECA/A/S/U-03-08.

For Further Information: To request a solicitation package, contact the Humphrey Fellowships and Institutional Linkages Branch; Office of Global Educational Programs, Bureau of Educational and Cultural Affairs; ECA/A/S/U, Room 349, U.S. Department of State; SA-44, 301 4th Street, SW., Washington, DC 20547; phone: (202) 619-5289, fax: (202)401-1433. The Solicitation Package includes more detailed award criteria, all application forms, and guidelines for preparing proposals, including specific criteria for preparation of the proposal budget. Applicants desiring more information may contact Program Officer Michelle Johnson at (202)205-8434 or johnsonmi@pd.state.gov.

Please read the complete Federal Register announcement before sending inquiries or submitting proposals. Once the RFGP deadline has passed, Bureau staff may not discuss this competition with applicants until the proposal review process has been completed.

Contact Information for the Faculty of Journalism at MSU: Applicants are strongly encouraged to consult with the Faculty of Journalism at MSU. More detailed information can be obtained from their web site at: http://www.journ.msu.ru. The designated contact person for this project is Dr. Elena Vartanova who may be reached by e-mail at: eva@journ.msu.ru.

To Download a Solicitation Package via Internet: The entire Solicitation Package, consisting of the RFGP, POGI, and PSI documents may be downloaded from the Bureau's website at http://exchanges.state.gov/education/RFGPs.

Please read all information before downloading.

Deadline for Proposals: All proposal copies must be received at the Bureau of Educational and Cultural Affairs by 5 p.m. Washington, DC time on Friday, September 20, 2002. Faxed documents will not be accepted at any time. Documents postmarked the due date but received on a later date will not be accepted. Each applicant must ensure that the proposals are received by the above deadline.

Approximate Program Dates: Pending availability of funds, grants should begin on or about January 1, 2003.

Applicants must follow all instructions in the Solicitation Package. The original and ten copies of the application should be sent to: U.S. Department of State, SA-44, Bureau of Educational and Cultural Affairs, Ref.: ECA/A/S/U-03-08, Program Management, ECA/EX/PM, Room 534, 301 4th Street, SW., Washington, DC 20547.

No later than one week after the competition deadline, applicants must also submit the Proposal Title Sheet, Executive Summary, and Proposal Narrative sections of the proposal as e-mail attachments in Microsoft Word (preferred), WordPerfect, or as ASCII text files to the following e-mail address: partnerships@pd.state.gov In the e-mail subject line, include the following: ECA/A/S/U-03-08. The Bureau will transmit these files electronically to the Public Affairs section at the U.S. Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as by the Public Diplomacy section overseas. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation:

1. Program planning and ability to achieve program objectives: Proposals should exhibit originality, substance, precision, and resourcefulness. Proposals should have reasonable and feasible project objectives that are clearly relevant to the Faculty of Journalism. A detailed agenda and relevant work plan should demonstrate substantive undertakings and logistical capacity. Agenda and plan should adhere to the program overview and guidelines described above and should clearly demonstrate how the partnership will meet the project's objectives.

2. Support of Diversity: Proposals should demonstrate substantive support of the Bureau's policy on diversity by explaining how issues of diversity are included in project objectives for all institutional partners. Issues resulting from differences of race, ethnicity, gender, religion, geography, socio-economic status, or physical challenge should be addressed during project implementation. In addition, project participants and administrators should reflect the diversity within the societies which they represent (see the section of this document of “Diversity, Freedom, and Democracy Guidelines”). Proposals should also discuss how the various institutional partners approach diversity issues in their respective communities or societies.

3. Institutional Capacity and Commitment: Proposals should demonstrate institutional resources adequate and appropriate to achieve program goals. Relevant factors include: the match between partner departments and schools; and the availability of sufficient numbers of faculty and/or administrators willing and able to participate. Proposals should provide evidence of strong institutional commitment by all participating institutions and an indication of collaborative program planning. Proposals should demonstrate promise of sustainability and long-term impact which will be reflected in a plan for continued, non-U.S. government support and follow-on activities.

4. Institution's Record/Ability: Proposals should demonstrate an institutional record of successful exchange programs, including responsible fiscal management and full compliance with all reporting requirements for past Bureau grants as determined by Bureau Grant Staff. The Bureau will consider the past performance of prior recipients and the demonstrated potential of new applicants.

5. Project Evaluation: Proposals should outline a methodology for determining the degree to which a project meets its objectives, both while the project is underway and at its conclusion. The final project evaluation should include an external component and should provide observations about the project's influence within the participating institutions as well as their surrounding communities or societies.

6. Cost-effectiveness and cost sharing: Administrative and program costs should be reasonable and appropriate with cost sharing provided by all participating institutions within the context of their respective capacities. Cost sharing is viewed as a reflection of institutional commitment to the project.

Authority

Overall grant making authority for this program is contained in the Mutual Educational and Cultural Exchange Act of 1961, Public Law 87-256, as amended, also known as the Fulbright-Hays Act. The purpose of the Act is “to enable the Government of the United States to increase mutual understanding between the people of the United States and the people of other countries * * * to strengthen the ties which unite us with other nations by demonstrating the educational and cultural interests, developments, and achievements of the people of the United States and other nations * * * and thus to assist in the development of friendly, sympathetic and peaceful relations between the United States and the other countries of the world.” The funding authority for the program cited above is provided through the Freedom for Russia and Emerging Eurasian Democracies and Open Markets Support Act of 1992 (FREEDOM Support Act).

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 25, 2002.
Rick A. Ruth,
Principal Deputy Assistant Secretary, Bureau of Educational and Cultural Affairs, Department of State.

[FR Doc. 02-10903 Filed 5-1-02; 8:45 am]

BILLING CODE 4710-05-P